Title 3—

The President

Memorandum of June 27, 2022

Extending and Expanding Eligibility for Deferred Enforced Departure for Liberians

Memorandum for the Secretary of State [and] the Secretary of Homeland Security

Since 1991, the United States has provided safe haven for Liberians who were forced to flee their country as a result of armed conflict and widespread civil strife, in part through the grant of Temporary Protected Status (TPS). The armed conflict ended in 2003, and TPS for affected Liberian nationals ended effective October 1, 2007. President Bush then deferred the enforced departure of those Liberians originally granted TPS. President Obama, in successive memoranda, extended that grant of Deferred Enforced Departure (DED) to March 31, 2018. President Trump then determined that conditions in Liberia did not warrant a further extension of DED, but that the foreign policy interests of the United States warranted an orderly transition period for Liberian DED beneficiaries. President Trump later extended that DED transition period through March 30, 2020.

In December 2019, the Congress enacted the National Defense Authorization Act for Fiscal Year 2020 (Public Law 116-92) (NDAA), which included, as section 7611, the Liberian Refugee Immigration Fairness (LRIF) provision. The LRIF provision, with limited exceptions, makes Liberians who have been continuously present in the United States since November 20, 2014, as well as their spouses and children, eligible for adjustment of status to that of lawful permanent resident (LPR). The NDAA gave eligible Liberian nationals until December 20, 2020, to apply for this adjustment of status. After the enactment of the LRIF provision, President Trump further extended the DED transition period through January 10, 2021, to ensure that DED beneficiaries would continue to be eligible for employment authorization during the LRIF application period.

The LRIF application process was new and complex, resulting in some procedural and administrative challenges. Recognizing these difficulties, the Congress enacted a 1-year extension to the application period in section 901 of the Consolidated Appropriations Act, 2021 (Public Law 116-260). That legislation, however, did not provide for continued employment authorization past January 10, 2021. Through my memorandum of January 20, 2021 (Reinstating Deferred Enforced Departure for Liberians), DED was subsequently reinstated through June 30, 2022, in order to permit employment authorization for eligible Liberians while they made their applications for adjustment of status under the LRIF provision.

There are compelling foreign policy reasons to extend DED for an additional period for those Liberians presently residing in the United States who were under a grant of DED until June 30, 2022, as well as to defer enforced departure for Liberians who have been continuously present in the United States since May 20, 2017. In addition to updating the continuous presence requirement, I have also determined that it is appropriate to include qualifying Liberians whose LRIF applications have been denied for reasons other than ineligibility under sections 7611(b)(1)(C) and (b)(3) of the NDAA in this DED designation. In particular, this includes providing protection from removal to those who arrived in the United States during a time when conditions prevented them from returning safely, including through May 20, 2017, and have since established family and community ties in the United States. Providing protection from removal and work authorization to these Liberians, for whom we have long authorized TPS or DED in the United States, including while they complete the LRIF status-adjustment process, honors the historic close relationship between the United States and Liberia and is in the foreign policy interests of the United States.

Pursuant to my constitutional authority to conduct the foreign relations of the United States, I have determined that it is in the foreign policy interests of the United States to defer through June 30, 2024, the removal of any Liberian national, or person without nationality who last habitually resided in Liberia, who is present in the United States and who was under a grant of DED as of June 30, 2022, as well as any Liberian national, or person without nationality who last habitually resided in Liberia, who has been continuously physically present in the United States since May 20, 2017. I have also determined that any Liberian national, or person without nationality who last habitually resided in Liberia, who was under a grant of DED as of June 30, 2022, or who has been continuously physically present in the United States since May 20, 2017, should have continued employment authorization through June 30, 2024.

The Secretary of Homeland Security shall promptly direct the appropriate officials to make provision, by means of a notice published in the Federal Register, for immediate allowance of employment authorization for those Liberians who held appropriate DED-related employment authorization documents as of June 30, 2022, or those Liberian nationals who have been continuously present in the United States since May 20, 2017. The Secretary of Homeland Security shall also provide for the prompt issuance of new or replacement employment authorization documents in appropriate cases.

This grant of DED and continued employment authorization shall apply to any Liberian DED beneficiary as of June 30, 2022, or any Liberian national who has been continuously present in the United States since May 20, 2017, but shall not apply to such persons in the following categories:

(1) individuals who would be ineligible for TPS for the reasons provided in section 244(c)(2)(B) of the Immigration and Nationality Act, 8 U.S.C. 1254a(c)(2)(B);

(2) individuals who sought or seek LPR status under the LRIF provision but whose applications have been or are denied by the Secretary of Homeland Security due to ineligibility for the LRIF provision under sections 7611(b)(1)(C) and (b)(3) of the NDAA;

(3) individuals whose removal the Secretary of Homeland Security determines is in the interest of the United States, subject to the LRIF provision;

(4) individuals whose presence or activities in the United States the Secretary of State has reasonable grounds to believe would have potentially serious adverse foreign policy consequences for the United States;

(5) individuals who have voluntarily returned to Liberia or their country of last habitual residence outside the United States for an aggregate period of 180 days or more, as specified in subsection (c)(2) of the LRIF provision; or

(6) individuals who are subject to extradition.

Accordingly, I hereby direct the Secretary of Homeland Security to take the necessary steps to implement for eligible Liberians:

(1) a deferral of enforced departure from the United States through June 30, 2024, effective immediately; and

(2) authorization for employment valid through June 30, 2024.

The Secretary of Homeland Security is authorized and directed to publish this memorandum in the Federal Register.

THE WHITE HOUSE,

Washington, June 27, 2022

[FR Doc. 2022-14082

Filed 6-28-22; 11:15 am]

Billing code 4410-10-P